DEPARTMENT OF COMMERCE

International Trade Administration

[A-427-811]

Stainless Steel Wire Rods From France: Amended Final Results of Expedited Sunset Review

AGENCY: Import Administration, International Trade Administration, Department of Commerce.

ACTION: Notice of amendment to final results of expedited sunset review; Stainless steel wire rods from France.

SUMMARY: On January 27, 2000, the Department of Commerce (“the Department”) issued the final results of its expedited sunset review of the antidumping finding on stainless steel wire rods from France (see 65 FR 5317, February 3, 2000). Subsequent to the issuance of the final results, we received comments alleging a ministerial error. After analyzing the comments submitted, we are amending our final results to correct the ministerial error. Based on the correction of the ministerial error, we are correcting the margins listed in the Final Result of Review section of the final results of expedited sunset review from 24.39 percent to 24.51 percent.

EFFECTIVE DATE: February 17, 2000.

FOR FURTHER INFORMATION CONTACT: Eun W. Cho or Melissa G. Skinner, Office of Policy for Import Administration, International Trade Administration, U.S. Department of Commerce, 14th St. & Constitution Ave., NW, Washington, DC 20230: telephone (202) 482-1698 or (202) 482-1560, respectively.

SUPPLEMENTARY INFORMATION:

Background

On January 27, 2000, the Department of Commerce (“the Department”) issued the final results of its expedited sunset review of the antidumping finding on stainless steel wire rods from France (see 65 FR 5317, February 3, 2000). Subsequent to the publication of the final results, we received comments on behalf of AL Tech Specialty Steel Corp., Carpenter Technology Corp., Republic Engineered Steels, Inc., Talley Metals Technology, Inc., and the United Steelworkers of America, AFL-CIO/CLC (hereinafter referred to as “domestic interested parties”) alleging a ministerial error.

Clerical Error Allegation

The domestic interested parties allege that, in the final results of its expedited sunset review, the Department agreed with the domestic interested parties that the margins likely to prevail if the order were revoked were the rates from the original investigation. However, the domestic interested parties indicate that the Department mistakenly identified the margins found in the final determination of the investigation ¹ (58 FR 68865, December 29, 1993) rather than those from the amended final determination of the investigation (59 FR 4022, January 28, 1994).² Specifically, the domestic interested parties allege that the original margin of 24.39 percent was amended to 24.51 percent for the French manufacturers/exporters of the subject merchandise.

¹ See Final Determination of Sales at Less Than Fair Value: Certain Stainless Steel Wire Rods From France, 58 FR 68865 (December 29, 1993).

² See Amended Final Determination and Antidumping Duty Order: Certain Stainless Steel Wire Rods from France, 59 FR 4022 (January 28, 1994).

After analyzing the comments submitted, we agree that we inadvertently listed wrong dumping margins in the Final Results of Review section of our final sunset results. Therefore, we are amending our final results to correct the ministerial error.

Amended Final Results of Review

Based on the correction of the ministerial error, we are correcting the margins listed in the Final Results of Review section of the final results of our expedited sunset review as follows:

Manufacturer/Exporter | Margin (percent)
Imphy | 24.51
Ugine-Savoie | 24.51
All others | 24.51

This amendment is issued and published in accordance with sections 751(h) and 777(i) of the Act.

Dated: February 11, 2000.
Robert S. LaRussa,
Assistant Secretary for Import Administration.

[FR Doc. 00-3849 Filed 2-16-00; 8:45 am]

BILLING CODE 3510-DS-M